DEPARTMENT OF THE INTERIOR

National Park Service

Final Supplemental Environmental Impact Statement for Yosemite Valley Plan, Yosemite National Park Madera, Mono, Tuolumne, and Mariposa Counties, California; Notice of Availability

SUMMARY: Pursuant to § 102(2)(C) of the National Environmental Policy Act of 1969 (Pub L.91-190, as amended), and the Council on Environmental Quality regulations (40 CFR Part 1500-1508), the National Park Service, Department of the Interior, has prepared a Final Supplemental Environmental Impact Statement identifying and evaluating five alternatives for a Yosemite Valley Plan within Yosemite National Park. The foreseeable potential for environmental impacts, and appropriate mitigation, are identified and assessed for each alternative. When approved, the plan is intended to guide management actions during the next 15-20 years.

Proposal

The proposed Yosemite Valley Plan (Alternative 2—Preferred) would restore approximately 176 disturbed or developed acres in Yosemite Valley to natural conditions. In addition, 173 acres of developed land would be redeveloped and 73 acres of undeveloped land would be developed to accommodate visitor and employee services, such as campgrounds, day-visitor parking, and employee housing. The net effect of this proposal would be to reduce development in Yosemite Valley by approximately 71 acres. This proposal would locate a new Valley Visitor Center and consolidate parking for day-visitors at Yosemite Village, and also consolidate parking in three areas outside Yosemite Valley. There would be more campsites and fewer lodging units than there are now. Vehicle travel in the eastern portion of Yosemite Valley during summer months would be greatly reduced. The area of the former Upper and Lower River Campgrounds would be restored to a mosaic of meadow, riparian, and oak woodland communities, roads would be removed from Ahwahnee and Stoneman Meadows, and much of Curry Orchard would be restored to natural conditions. Southside Drive would be converted to two-way traffic from El Capitan crossover to Curry Village, and Northside Drive would be converted to a paved bicycle and pedestrian trail from El Capitan crossover to Yosemite Lodge. There would be minimal new development west of Yosemite Lodge.

Alternatives

Alternative 1 maintains the status quo in Yosemite Valley, as described in Chapter 3, Affected Environment. It provides a baseline from which to compare other alternatives, to evaluate the magnitude of proposed changes, and to measure the environmental effects of those changes. This “no new actions” concept follows the guidance of the Council on Environmental Quality, which defines such base-line alternatives as no change from the current management direction or level of management intensity.

Alternative 3 would restore approximately 209 disturbed or developed acres in Yosemite Valley to natural conditions; and 148 acres of developed land would be redeveloped and 99 acres of undeveloped land would be developed to accommodate visitor and employee services. The net effect would be to reduce development in Yosemite Valley by approximately 72 acres. This alternative consolidates parking for day-visitors in the Taft Toe area; a Valley Visitor Center would also be constructed there. There would be fewer campsites and lodging units than there are now. The area of the former Upper and Lower River Campgrounds and the Camp 6 parking area near Yosemite Village would be restored to riparian habitat, roads would be removed from Ahwahnee and Stoneman Meadows, and parking and the historic fruit trees would be removed from Curry Orchard. Northside Drive would be converted to a trail for pedestrians and bicyclists from Yosemite Lodge to El Capitan Crossover, and Southside Drive would be converted to two-way traffic from Taft Toe to Curry Village.

Alternative 4 would restore approximately 194 disturbed or developed acres in Yosemite Valley to natural conditions. In addition, 154 acres of developed land would be redeveloped and 99 acres of undeveloped land would be developed to accommodate visitor and employee services. The net effect would be to reduce development in Yosemite Valley by approximately 66 acres. This alternative would consolidate parking for day-visitors in the Taft Toe area in mid Yosemite Valley and in three parking areas outside the Valley. A Valley Visitor Center would be constructed at Taft Toe. There would be fewer campsites and lodging units than there are now. The area of former Upper and Lower River Campgrounds and the Camp 6 parking area near Yosemite Village would be restored to riparian communities; roads would be removed from Ahwahnee and Stoneman Meadows; and parking would be removed from Curry Orchard. Northside Drive would be converted to a multi-use-paved trail for hikers and bicyclists, from Yosemite Lodge to El Capitan crossover. Southside Drive would be converted to two-way traffic from Taft Toe to Curry Village.

Alternative 5 would restore approximately 157 disturbed or developed acres in Yosemite Valley to natural conditions. In addition, 181 acres of developed land would be redeveloped and 54 acres of undeveloped land would be developed to accommodate employee and visitor services. The net effect would be to reduce development in Yosemite Valley by approximately 63 acres. This alternative consolidates parking for day-visitors at Yosemite Village and selected areas outside of Yosemite Valley. A new transit center would be located at Yosemite Village. Traffic circulation would remain similar to the present; however, one lane of Northside and Southside Drives would be converted to multi-use paved trails between El Capitan Crossover and Yosemite Lodge. There would be more campsites and fewer lodging units than now, and area of the former Lower and Upper River Campgrounds would be restored to a mosaic of riparian and oak woodland communities. There would be minimal new development in mid and west Yosemite Valley.

Planning Background

The draft Yosemite Valley Plan and Supplemental Environmental Impact Statement (SEIS) were prepared by the National Park Service (NPS) pursuant to the National Environmental Policy Act. A Scoping Notice was published in the Federal Register on December 16, 1998. General issues and specific concerns already raised during previous relevant planning processes were provided to the public. Scoping comments were received through February 1, 1999. During this scoping period, the NPS facilitated over 100 discussions and briefings to interested members of the public, congressional delegations, Indian Tribes, elected officials, other agencies, public service organizations, educational institutions, and other entities. Nearly 600 letters were received concerning the announced conservation planning and environmental impact analysis process.

The draft Yosemite Valley Plan/SEIS—formally announced for public review per Notice of Availability published in the Federal Register on April 13, 2000—was sent directly to all individuals, organizations, and agencies which had previously contacted the park; copies could also be obtained in the park, by mail, at public meetings, and were available for review at local and regional libraries (i.e., San Francisco and Los Angeles). Finally, the complete document was posted on the Yosemite National Park WebPage (http://www.nps.gov/yose/planning). Written comments were accepted through July 14, 2000. Approximately 10,200 responses were received; all were duly considered and adjustments were made to the draft plan. All written comments have been archived and are available for public review in the park's research library.

In order to further foster public review and comment, 14 public meetings were held throughout California—half of these were conducted in major metropolitan areas of the State, and half in cities and towns neighboring Yosemite National Park. All meetings consisted of a combined open house (where participants could view displays and talk with park management and planning staff) and formal hearings where oral testimony before park officials was documented by a court reporter. Approximately 1,500 persons attended these meetings, and 365 individuals and organization representatives testified during the hearings. In addition, public meetings were conducted in Seattle, Washington, Denver, Colorado, Chicago, Illinois, and Washington D.C. Over 100 individuals attended these out-of-state meetings.

Decision Process

Subsequent to release of the final Yosemite Valley Plan/SEIS, notice of an approved Record of Decision shall be published in the Federal Register not sooner than thirty (30) days after the final document has been distributed. This is expected to occur by the end of December 2000. The official responsible for the decision is the Regional Director, Pacific West Region, National Park Service; the official responsible for implementation is the Superintendent, Yosemite National Park.

Dated: November 13, 2000.
Patricia L. Neubacher,
Acting Regional Director, Pacific West Region.

[FR Doc. 00-29670 Filed 11-20-00; 8:45 am]

BILLING CODE 4310-70-P